DEPARTMENT OF AGRICULTURE

Office of Advocacy and Outreach (OAO)

Advisory Committee on Minority Farmers Request for Nominations

AGENCY: Office of Advocacy and Outreach, USDA.

ACTION: Solicitation for nominations.

SUMMARY: Pursuant to the Federal Advisory Committee Act (FACA, 5 U.S.C. App.), notice is hereby given that the Secretary of Agriculture is soliciting nominations for membership for the Advisory Committee on Minority Farmers (the “Committee”). Interested persons may submit applications and nomination packages which can be downloaded at: https://www.ocio.usda.gov/document/ad-755.

DATES: Consideration will be given to nominations received on or before June 16, 2017.

FOR FURTHER INFORMATION CONTACT: Mrs. Kenya Nicholas, Designated Federal Official, USDA OAO, 1400 Independence Avenue SW., Room 520-A, Washington, DC 20250-0601; Telephone (202) 720-6350; Fax (202) 720-7704; Email: kenya.nicholas@osec.usda.gov.

ADDRESSES: Nomination packages may be sent by postal mail or commercial delivery to: Mrs. Kenya Nicholas, Designated Federal Official, USDA OAO, 1400 Independence Avenue SW., Room 520-A, Washington, DC 20250-0601. Nomination packages may also be faxed to (202) 720-7704.

SUPPLEMENTARY INFORMATION: On March 7, 2017, we published in the Federal Register (FR DOC# 2017-04395, Pages 12782-12783) a Notice of Solicitation for Membership.

Applications were required to be received on or before March 31, 2017. We are re-issuing this announcement to extend the submission period to June 16, 2017. Prior applicants are not required to reapply. We are soliciting nominations from interested organizations and individuals from among socially disadvantaged farming and ranching producers (industry); civil rights professionals; private nonprofit organizations; State, and Tribal agricultural agencies; academic institutions; commercial banking entities; trade associations; related enterprises that support socially disadvantaged producers; and higher education institutions that work with socially disadvantaged producers. An organization may nominate individuals from within or outside its membership; alternatively, an individual may nominate herself or himself. Nomination packages should include a nomination form along with a cover letter or resume that documents the nominee's background and experience. Nomination forms are available on the Internet at https://www.ocio.usda.gov/document/ad-755 or may be obtained from Mrs. Kenya Nicholas at the email address or telephone number noted above.

The Secretary will fill up to 15 vacancies from among those organizations and individuals solicited, in order to obtain the broadest possible representation on the Committee. Equal opportunity practices, in line with the USDA policies, will be followed in all appointments to the Committee. To ensure that the recommendations of the Committee have taken into account the needs of the diverse groups served by the Department, membership should include, to the extent practicable, individuals with demonstrated ability to represent minorities, women, and persons with disabilities.

Signed in Washington, DC, May 2, 2017.
Christian Obineme,
Associate Director, Office of Advocacy and Outreach.

[FR Doc. 2017-11216 Filed 5-31-17; 8:45 am]

BILLING CODE P